DEPARTMENT OF JUSTICE

Antitrust Division

Notice Pursuant to the National Cooperative Research and Production Act of 1993—Standards-Based Interoperable Guideline System Joint Venture

Notice is hereby given that, on November 26, 2001, pursuant to section 6(a) of the National Cooperative Research and Production Act of 1993, 15 U.S.C. 4301 et seq. (“the Act”), IDX Systems Corporation has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are IDX Systems Corp., Seattle, WA; Apelon, Inc., Ridgefield, CT; Stanford University, Stanford, CA; Mayo Clinic Rochester, Rochester, MN; IHC Health Services, Inc., Salt Lake City, UT; and Board of Regents, University of Nebraska, University of Nebraska Medical Center, Omaha, NE. The nature and objectives of the venture are the development of healthcare software consisting of a computable format for representing clinical interoperable guidelines, a tool for authoring and editing these guidelines, and software which maps and integrate guideline content into clinical information systems.

Constance K. Robinson,
Director of Operations, Antitrust Division.

[FR Doc. 02-1592 Filed 1-22-02; 8:45 am]

BILLING CODE 4410-11-M